DEPARTMENT OF HOMELAND SECURITY

Coast Guard

[Docket No. USCG-2023-0393]

National Merchant Marine Personnel Advisory Committee; Vacancies

AGENCY: Coast Guard, Department of Homeland Security.

ACTION: Request for applications.

SUMMARY: The U.S. Coast Guard seeks applications to fill two-member vacancies on the National Merchant Marine Personnel Advisory Committee (Committee). This Committee advises the Secretary of Homeland Security and the Coast Guard on matters relating to personnel in the United States Merchant Marine, including the training, qualifications, certification, documentation, and fitness of mariners.

DATES: Completed applications should reach the U.S. Coast Guard on or before August 8, 2023.

ADDRESSES: Applications should include a cover letter expressing interest in an appointment to the National Merchant Marine Personnel Advisory Committee, a resume detailing the applicant's relevant experience for the position applied for (including the mariner reference number for the credentials held), and a brief biography. Applications should be submitted via email with subject line “Application for NMERPAC” to megan.c.johns@uscg.mil.

FOR FURTHER INFORMATION CONTACT: Mrs. Megan Johns Henry, Alternate Designated Federal Officer of the National Merchant Marine Personnel Advisory Committee; telephone 202-372-1255 or email at megan.c.johns@uscg.mil.

SUPPLEMENTARY INFORMATION: The National Merchant Marine Personnel Advisory Committee is a Federal advisory committee. The Committee must operate under the provisions of the Federal Advisory Committee Act, (Pub. L. 117-286, 5 U.S.C. ch. 10), and 46 U.S.C. 15109.

The Committee was established on December 4, 2018, by section 601 of the Frank LoBiondo Coast Guard Authorization Act of 2018 (Pub. L. 115-282, 132 Stat 4192), and is codified in 46 U.S.C. 15103. The Committee is required to meet at least once a year in accordance with 46 U.S.C. 15109(a). We expect the Committee will hold meetings at least twice a year, typically in the last week of March and the week of September following the Labor Day holiday. The meetings are held at locations across the country selected by the U.S. Coast Guard.

Under provisions in 46 U.S.C. 15109(f)(6), if you are appointed as a member of the Committee, your membership term will expire on December 31st of the third full year after the effective date of your appointment. The Secretary of Homeland Security may require an individual to have passed an appropriate security background examination before appointment to the Committee, 46 U.S.C. 15109(f)(4).

All members serve at their own expense and receive no salary or other compensation from the Federal Government. Members may be reimbursed for travel and per diem in accordance with Federal Travel Regulations. If you are appointed as a member of the Committee, you will be required to sign a Non-Disclosure Agreement and a Gratuitous Services Agreement.

In this solicitation for Committee members, we will consider applications for two (2) positions:

• One shall be a United States citizen holding an active license or certificate issued under 46 U.S.C. chapter 71 or a merchant mariner documents issued under 46 U.S.C. chapter 73, as a deck officer who represents merchant marine deck officers, who currently holds a Merchant Mariner Credential with an endorsement for oceans any gross tons, an endorsement for inland river route with a limited or unlimited tonnage, and significant tanker experience.

• One shall be a pilot who represents merchant marine pilots.

Each member of the Committee must have expertise, knowledge, and experience on matters related to personnel in the United States merchant marine, including the training, qualifications, certification, documentation, and fitness of mariners.

The members who will fill the two positions described above will be appointed to represent the interest of their respective groups and viewpoints and are not Special Government Employees as defined in 18 U.S.C. 202(a).

In order for the Department, to fully leverage broad-ranging experience and education, the National Merchant Marine Personnel Advisory Committee must be diverse with regard to professional and technical expertise. The Department is committed to pursuing opportunities, consistent with applicable law, to compose a committee that reflects the diversity of the Nation's people.

If you are interested in applying to become a member of the Committee, email your application to megan.c.johns@uscg.mil as provided in the ADDRESSES section of this notice. Applications must include: (1) a cover letter expressing interest in an appointment to the National Merchant Marine Personnel Advisory Committee; (2) a resume detailing the applicant's relevant experience and (3) a brief biography of the applicant by the deadline in the DATES section of this notice.

The U.S. Coast Guard will not consider incomplete or late applications.

Dated: June 6, 2023.
Benjamin J. Hawkins,
Deputy Director, Commercial Regulations and Standards.

[FR Doc. 2023-12408 Filed 6-8-23; 8:45 am]

BILLING CODE 9110-04-P